CENTRAL INTELLIGENCE AGENCY

Privacy Act of 1974; System of Records

AGENCY: Central Intelligence Agency.

ACTION: Notice of New and Modified Systems of Records.

SUMMARY: Pursuant to the Privacy Act of 1974, as amended, and Office of Management and Budget (OMB) Circular No. A-108, notice is hereby given that the Central Intelligence Agency (“CIA” or “the Agency”) is submitting to the Federal Register one (1) new System of Records Notice (SORN), CIA-45 Resolution Office Records, and two (2) modified SORNs, CIA-19, Agency Human Resource Records, and the renamed CIA-36, Alumni Relations Records.

DATES: In accordance with 5 U.S.C. 552a(e)(4) and (11), this notice is effective upon publication, subject to a 30-day period in which to comment on the routine uses, described below. Please submit any comments by October 16, 2025.

ADDRESSES: Comments may be submitted by the following methods: By mail to Mark J. Mouser, Privacy and Civil Liberties Officer, Central Intelligence Agency, Washington, DC 20505, by telephone at (571) 280-2700, or by email to FedRegLiaison@uce.cia.gov. Please include “NOTICE OF NEW AND MODIFIED CIA SORNS” in the subject line of the message.

FOR FURTHER INFORMATION CONTACT: Mark J. Mouser, Privacy and Civil Liberties Officer, Central Intelligence Agency, Washington, DC 20505, (571) 280-2700.

SUPPLEMENTARY INFORMATION: CIA is publishing a total of three (3) SORNs. Of this total, CIA has modified two (2) existing SORNs and created one (1) new SORN.

CIA-45, Resolution Office Records

CIA proposes a new System of Record Notice, CIA-45 Resolution Office Records, to cover records maintained by the Agency's Resolution Office to assess, inquire into, and efficiently manage allegations of grievances, harassment inquiries, and other workplace conflicts.

CIA created the Resolution Office to centralize handling and documentation of workplace complaints that previously would have been handled by human resources, first line management, grievance personnel, anti-harassment personnel, or ombudsman personnel. Previously, workplace complaints not specifically handled by offices such as the Office of Inspector General or Office of Equal Employment Opportunity were handled on an ad hoc basis in the unit where the issue occurred. The Resolution Office will now provide an enterprise service with the responsibility to respond to, investigate, and resolve all complaints not otherwise being addressed by other CIA processes, including issues of harassment, sexual harassment, workplace conflicts, and general grievances relating to a potential process or policy violation.

CIA-19, Agency Human Resources Records

CIA proposes to modify CIA-19, Agency Human Resources Records, last published in the Federal Register at 87 FR 73198, 73215 (November 28, 2022), pursuant to Executive Order 14151, Ending Radical and Wasteful Government DEI Programs and Preferencing, 90 FR 8339 (January 29, 2025). Specifically, CIA is modifying the “Purpose(s) of the System” paragraph in CIA-19 to reflect that authorized CIA personnel will not use CIA records covered by CIA-19 for the purpose of compiling statistical reports on “diversity and inclusion” demographics for CIA management.

CIA-36, Alumni Relations Records

CIA proposes to modify the previously titled CIA-36, Alumni Communications Records, last published in the Federal Register at 87 FR 73198, 73228 (November 28, 2022). CIA is revising CIA-36 to reflect the broader scope and mission of the new Office of Alumni Relations. CIA envisions a robust program maintaining alumni relationships with: (1) former staff employees; and (2) former personnel employed by the Agency in a noncareer status through a contract when services are required to meet operational or support requirements that cannot be met by other Agency resources (“former term-limited contract employees”). This alumni program will provide a network for communication between alumni and CIA on events, recruitment, and fulfilling reporting or other mission requirements.

To fulfill this priority, CIA established the Office of Alumni Relations (OAR) to serve as the principal conduit between the CIA and its alumni. OAR's programs and support functions are designed, among other functions, to centralize information the CIA maintains on its alumni, maintain consistent communication and engagement with eligible alumni, ensure alumni are aware of applicable post-employment restrictions as well as reporting and other lifelong security and counterintelligence obligations.

As a result of CIA establishing OAR, and its expanded responsibilities, CIA is making significant changes to CIA-36 Alumni Communications Records. Specifically, the SORN has been modified to reflect the broader scope and mission of the Office of Alumni Relations and the title of the SORN changed to reflect these roles.

Nothing in the new or modified SORNs changes the Central Intelligence Agency's authorities regarding the collection and maintenance of information about citizens and lawful permanent residents of the United States, nor do the changes impact any individual's rights to access or to amend their records pursuant to the Privacy Act.

In accordance with 5 U.S.C. 552a(r), the Agency has provided a report to OMB and Congress on the new and modified SORNs.

Dated: September 12, 2025.
Mark J. Mouser,
Privacy and Civil Liberties Officer, Central Intelligence Agency.

CIA-19

SYSTEM NAME AND NUMBER:

Agency Human Resource Records (CIA-19).

SECURITY CLASSIFICATION:

The classification of records in this system can range from UNCLASSIFIED to TOP SECRET.

SYSTEM LOCATION:

Central Intelligence Agency, Washington, DC 20505.

SYSTEM MANAGER(S):

Director, Office of Personnel Resources, Central Intelligence Agency, Washington, DC 20505.

* * * * *

PURPOSE(S) OF THE SYSTEM:

[Revise “Purpose(s) of the System” paragraph as follows:]

Records in this system are used by authorized personnel to: ensure process integrity; provide a data source for statistical and pattern analysis to support resource planning and business analytics; enable the CIA and the Director of the CIA to carry out their lawful and authorized responsibilities; serve as the primary human resources management system for the CIA; maintain a comprehensive and continuing record of an individual's service, status, skills, and personnel history; perform centralized personnel functions such as employment, separation of employment, payroll, position and personnel staffing, and general employee transactions; administer systems dependent on personnel data such as insurance, medical and health care, and authorized retirement and retirement savings; compute salary, attendance, leave, benefits and entitlements for payroll and its dependent systems including insurance, medical and health care, and authorized retirement and retirement savings systems; maintain applicant and employee biographic and demographic data; compile statistical reports for CIA management on workforce strength, distribution and utilization of staffing, average grades and salaries, demographics, projected retirements, profiles of CIA skills and qualifications, comparative rates on promotions, separations, new employees, and reasons for separations; provide information and statistics for heads of Career Services to assist in administering career development and evaluation programs, including promotion rates and headroom, performance appraisal report ratings, qualifications, changes in their Career Services; assess staffing patterns, grade and salary data for office heads required for staffing and budget projections; provide information and statistics for components responsible for administering recruitment, hospitalization, insurance, and authorized retirement and retirement savings programs; report statistical data calls regarding workforce questions, and provide records of employee transactions to responsible CIA officials and to the employees themselves.

* * * * *

HISTORY:

[Revise “HISTORY” paragraph as follows:]

70 FR 42417, July 22, 2005; revised 87 FR 73198, November 28, 2022.

* * * * *

CIA-36

SYSTEM NAME AND NUMBER:

Alumni Relations Records (CIA-36).

SECURITY CLASSIFICATION:

The classification of records in this system can range from UNCLASSIFIED to TOP SECRET.

SYSTEM LOCATION:

Central Intelligence Agency, Washington, DC 20505.

SYSTEM MANAGER(S):

Director, Office of Alumni Relations (OAR), Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; verify previous CIA employment; facilitate engagement between the CIA and former CIA career and former term-limited contract employees; build and maintain relationships between CIA and former career and former term-limited contract employees; advance talent acquisition and management practices; conduct trend analyses related to retention and attrition; document former CIA career and former term-limited contract employees' fulfillment of post-Agency employment obligations and service; comply with CIA reporting requirements related to its former career and former term-limited contract employees; and manage interactions between former CIA career and former term-limited contract employees and other CIA offices and components.

CATEGORIES OF INDIVIDUALS COVERED BY THE SYSTEM:

Former CIA career and former term-limited contract employees.

CATEGORIES OF RECORDS IN THE SYSTEM:

Biographic data, including full name and contact information; communication and engagement preferences and history; service record from period(s) of CIA employment; professional service records prior to and following period(s) of CIA employment; and records related to any applicable post-Agency employment obligations and service.

RECORD SOURCE CATEGORIES:

Former CIA career and former term-limited contract employees; other CIA systems of record; and relevant publicly available information outlets.

ROUTINE USES OF RECORDS MAINTAINED IN THE SYSTEM, INCLUDING CATEGORIES OF USERS AND THE PURPOSES OF SUCH USES:

In addition to the disclosures generally permitted under 5 U.S.C. 552a(b), this information is set forth in the “Statement of General Routine Uses for the Central Intelligence Agency,” set out at 87 FR 73198 (November 28, 2022), which is incorporated herein by reference.

POLICIES AND PRACTICES FOR STORAGE OF RECORDS:

Paper and other hard-copy records are stored in secured areas within the CIA or in CIA-controlled facilities. Electronic records are stored in secure file-servers located within CIA-controlled facilities or in CIA-contracted facilities subject to CIA supervision.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to protect against unauthorized access, use, and disclosure.

RECORD ACCESS PROCEDURES:

Requests from individuals should be addressed as indicated in the notification procedures section below. Regulations for access to individual records or for appealing an initial determination by CIA concerning the access to records are published in the Code of Federal Regulations (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Code of Federal Regulations (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Code of Federal Regulations (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417 (July 22, 2005), revised 87 FR 73198 (November 28, 2022).

CIA-45

SYSTEM NAME AND NUMBER:

Resolution Office Records (CIA-45).

SECURITY CLASSIFICATION:

The classification of records in this system can range from UNCLASSIFIED to TOP SECRET.

SYSTEM LOCATION:

Central Intelligence Agency, Washington, DC 20505.

SYSTEM MANAGER(S):

Director, Resolution Office, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Equal Employment Opportunity Commission (EEOC) Enforcement Guidance on Vicarious Employer Liability for Unlawful Harassment by Supervisors, No. 915.002 (18 June 1999); EEOC Management Directive 715 (MD-715) (1 October 2003).

PURPOSE(S) OF THE SYSTEM:

Records in this system are used by authorized personnel to ensure process integrity; enable the CIA and the Director of the CIA to carry out their lawful and authorized responsibilities; process allegations and inquiries of harassment, grievances, and other workplace conflicts; track and document guidance, assessments, inquiries, and management implementation of recommended disciplinary action; track and document any other responsibilities and functions assigned to the Resolution Office directed by the Director of the CIA or designee; monitor and analyze data related to allegations of harassment, grievances, and workplace conflicts to identify trends, patterns, and areas for improvement; and facilitate reports to CIA leadership, other stakeholders, and oversight bodies.

CATEGORIES OF INDIVIDUALS COVERED BY THE SYSTEM:

Current and former CIA staff and contract employees, independent contractors, industrial contractor personnel, and military and civilian personnel detailed to the CIA, applicants for employment with CIA, and any other individual authorized to work or be present on CIA premises, including its rented or leased facilities.

CATEGORIES OF RECORDS IN THE SYSTEM:

Documents, information, and materials relating to the assessment, inquiry, and management implementation of any recommended disciplinary action, including: data collected by Resolution Office (RO) officers that relate to the alleged harassment, grievance, or workplace conflict under review; interviews and statements from claimants, alleged offenders, witnesses, or other individuals, as appropriate; other documents or statistical evidence considered pertinent to the case which assists the CIA or RO in making a decision; case management and tracking data; and any other authorized data collected to support RO complaints and inquiries.

RECORD SOURCE CATEGORIES:

Information may be provided by or derived from: individuals covered by this System of Record Notice; including claimants, witnesses, alleged offenders, CIA management, and CIA personnel whose duties include supporting RO's mission; other systems covered by other CIA System of Record Notices; or individuals with information relevant to an RO inquiry or allegation.

ROUTINE USES OF RECORDS MAINTAINED IN THE SYSTEM, INCLUDING CATEGORIES OF USERS AND THE PURPOSES OF SUCH USES:

In addition to the disclosures generally permitted under 5 U.S.C. 552a(b), this information is set forth in the “Statement of General Routine Uses for the Central Intelligence Agency,” set out at 87 FR 73198 (November 28, 2022, which is incorporated herein by reference.

POLICIES AND PRACTICES FOR STORAGE OF RECORDS:

Paper and other hard-copy records are stored in secured areas within the CIA or in CIA-controlled facilities. Electronic records are stored in secure file-servers located within CIA-controlled facilities or in CIA-contracted facilities subject to CIA supervision.

POLICIES AND PRACTICES FOR RETRIEVAL OF RECORDS:

Records in this system may be retrieved by name, case number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Code of Federal Regulations (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Code of Federal Regulations (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Code of Federal Regulations (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

None.

[FR Doc. 2025-17869 Filed 9-15-25; 8:45 am]

BILLING CODE 6310-02-P